ENVIRONMENTAL PROTECTION AGENCY

40 CFR Part 52

[EPA-R04-OAR-2021-0264; FRL-8980-02-R4]

Air Plan Approval; North Carolina; Mecklenburg Emission Control Standards

AGENCY: Environmental Protection Agency (EPA).

ACTION: Final rule.

SUMMARY: The Environmental Protection Agency (EPA) is approving a State Implementation Plan (SIP) revision to the Mecklenburg County portion of the North Carolina SIP, hereinafter referred to as the Mecklenburg Local Implementation Plan (LIP). The revision was submitted by the State of North Carolina, through the North Carolina Division of Air Quality (NCDAQ), on behalf of Mecklenburg County Air Quality (MCAQ) via a letter dated April 24, 2020. The revision includes updates to various emission control standards contained in the Mecklenburg County Air Pollution Control Ordinance (MCAPCO) incorporated into the LIP. EPA is approving these changes pursuant to the Clean Air Act (CAA or Act).

DATES: This rule is effective October 30, 2024.

ADDRESSES: EPA has established a docket for this action under Docket Identification No. EPA-R04-OAR-2021-0264. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Josue Ortiz Borrero, Air Regulatory Management Section, Air Planning and Implementation Branch, Air and Radiation Division, U.S. Environmental Protection Agency, Region 4, 61 Forsyth Street SW, Atlanta, Georgia 30303-8960. The telephone number is (404) 562-8085. Mr. Ortiz Borrero can also be reached via electronic mail at ortizborrero.josue@epa.gov.

SUPPLEMENTARY INFORMATION:

I. Background

The original Mecklenburg County LIP was submitted to EPA on June 14, 1990, and EPA approved the plan on May 2, 1991. See 56 FR 20140. Mecklenburg County prepared three submittals to modify the LIP for, among other things, general consistency with the North Carolina SIP.¹ The three submittals were submitted as follows: NCDAQ transmitted the October 25, 2017, submittal to EPA but later withdrew it from review through a letter dated February 15, 2019. On April 24, 2020, NCDAQ resubmitted the October 25, 2017, update to EPA and also submitted the January 21, 2016, and January 14, 2019, updates. Due to an inconsistency with public notice at the local level, these submittals were withdrawn from EPA through a letter dated February 15, 2019. Mecklenburg County corrected this error, and NCDAQ submitted the updates to EPA in a submittal dated April 24, 2020.²

¹ The Mecklenburg County, North Carolina revision that is dated April 24, 2020, and received by EPA on June 19, 2020, is comprised of three previous submittals—one dated January 21, 2016; one dated October 25, 2017; and one dated January 14, 2019.

² EPA notes that the April 24, 2020, submission was received by EPA on June 19, 2020. For clarity, throughout this document EPA will refer to the June 19, 2020, submission by its cover letter date of April 24, 2020.

The April 24, 2020, submittal includes changes and updates to the following rules to align them more closely with their analogous SIP-approved North Carolina regulations: MCAPCO Rules 2.0502, Purpose; 2.0507, Particulates from Chemical Fertilizer Manufacturing Plants; 2.0508, Particulates from Pulp and Paper Mills; 2.0513, Particulates from Portland Cement Plants; 2.0514, Particulates from Ferrous Jobbing Foundries; 2.0515, Particulates from Miscellaneous Industrial Processes; and 2.0533, Stack Height. EPA is approving the incorporation of these rules into the Mecklenburg LIP.³

³ EPA has previously taken action on portions of the April 24, 2020, submittal. The April 24, 2020, submittal contains changes to other Mecklenburg LIP-approved rules that are not addressed in this document. EPA will be acting on those rules in separate actions.

In a notice of proposed rulemaking (NPRM) published on July 25, 2024 (89 FR 60339), EPA proposed to approve the April 24, 2020, SIP revision. The details of North Carolina's submittal and the rationale for EPA's action are explained further in the July 25, 2024, NPRM. Comments on the NPRM were due on or before August 26, 2024. EPA received three sets of comments on the July 25, 2024, NPRM. One set of comments is not relevant to this action and two sets of comments are substantively identical. The two substantively identical comment sets are addressed below. All three comment sets are available in the docket for this action.

II. Response to Comments

EPA received two substantively identical sets of comments on the July 25, 2024, NPRM from Clean Future (Commenter). EPA has summarized and responded to the comments below.

Comments: The Commenter generally supports EPA's action and states that this SIP revision is “an important step toward improving air quality management in the region.” The Commenter provides generalized suggestions regarding the LIP and implementation of the LIP, including a request for a requirement that “actively gets updates and statements of facilities,” a request for regular assessments to ensure the regulations are being properly implemented, and a recommendation that EPA establish a mechanism for periodic review and adjustment of the regulations to incorporate new developments and address any unforeseen challenges. The Commenter also notes that there should be monitoring and enforcement and “effective mechanisms and reporting,” notes the importance of reviewing how these updated standards compare with current federal and State guidelines and notes the importance of assessing the effectiveness of these regulations to reduce emissions.

Response: EPA appreciates the Commenter's support for this action. Due to the general nature of the Commenter's requests and suggestions, EPA is only able to provide general responses.

The scope of EPA's review in evaluating SIP revisions is limited to the process in CAA section 110 and EPA's implementing regulations codified at 40 CFR part 51. Under CAA section 110, States have broad discretion to choose the mix of emission limitations and other control measures, means, or techniques that they will implement (or update) through a SIP to provide for attainment and maintenance of national ambient air quality standards (NAAQS). EPA's role, with respect to a SIP revision, is focused on reviewing the submission to determine whether it meets the minimum criteria of the CAA. These minimum criteria include CAA section 110(l), which prohibits EPA from approving a SIP revision that would interfere with any applicable requirement concerning attainment and reasonable further progress (as defined in section 171), or any other applicable requirement of the Act. Where a SIP revision meets the minimum CAA criteria, EPA must approve the submission. When approving a SIP revision, the Agency is not establishing its own requirements for the State to implement. If, at any time, EPA finds that a SIP is inadequate to attain or maintain the relevant NAAQS or otherwise does not comply with the CAA, EPA has the authority under CAA section 110(k)(5) to require the State to revise its SIP to correct such inadequacies.

In general, the Act addresses monitoring, reporting, and enforcement in SIPs (as well as LIPs). See, e.g., CAA section 110(a)(2)(A) (requiring “enforceable emission limitations and other control measures, means, or techniques”); CAA section 110(a)(2)(B)(i) (requiring the “establishment and operation of devices . . . to . . . monitor, compile, and analyze data on ambient air quality”); CAA section 110(a)(2)(C) (requiring “a program to provide for the enforcement” of such measures); CAA section 110(a)(2)(F) (addressing reporting). The LIP revisions at issue here are narrow and only include updates to emission standards in MCAPCO 2.0502, Purpose; 2.0507, Particulates from Chemical Fertilizer Manufacturing Plants; 2.0508, Particulates from Pulp and Paper Mills; 2.0513, Particulates from Portland Cement Plants; 2.0514, Particulates from Ferrous Jobbing Foundries; 2.0515, Particulates from Miscellaneous Industrial Processes; and 2.0533, Stack Height. The revision does not alter any existing LIP-approved monitoring, enforcement, or reporting requirements, remove any such requirements, or add any such requirements. Given the limited nature of this SIP revision and EPA's role in reviewing SIP revisions discussed above, the comments regarding monitoring, reporting, and enforcement are beyond the scope of this action. Regarding the Commenter's recommendation to establish a mechanism for periodic review and adjustment of regulations to incorporate new developments and challenges, EPA reiterates that it has the authority to issue a SIP call under CAA section 110(k)(5) if, at any time, it finds the SIP to be inadequate to attain or maintain the relevant NAAQS or otherwise does not comply with the CAA.

Regarding the importance of assessing the effectiveness of these regulations to reduce emissions and comparing the revision with federal and State guidelines, EPA reviewed the revision in accordance with CAA section 110(l), which prohibits the Agency from approving a SIP revision that would interfere with any applicable requirement concerning attainment or any other applicable requirement of the Act. In developing the NPRM, EPA evaluated each rule revision, including its potential impact on air quality and its consistency with applicable CAA requirements, and determined that the revision meets the requirements of CAA section 110(l). EPA is therefore approving this revision to the Mecklenburg LIP.

III. Incorporation by Reference

In this document, EPA is finalizing regulatory text that includes incorporation by reference. In accordance with the requirements of 1 CFR 51.5, and as discussed in Sections I and II of this preamble, EPA is finalizing the incorporation by reference of the following revised MCAPCO Rules, with a local effective date of December 15, 2015, into the Mecklenburg LIP: 2.0502, Purpose; 2.0507, Particulates from Chemical Fertilizer Manufacturing Plants; 2.0508, Particulates from Pulp and Paper Mills; ⁴ 2.0513, Particulates from Portland Cement Plants; ⁵ 2.0514, Particulates from Ferrous Jobbing Foundries; ⁶ 2.0515, Particulates from Miscellaneous Industrial Processes; and 2.0533, Stack Height. EPA has made, and will continue to make, these materials generally available through www.regulations.gov and at the EPA Region 4 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.⁷

⁴ Rule 2.0508, currently entitled Control of Particulates from Pulp and Paper Mills in the Mecklenburg LIP, is being renamed to Particulates from Pulp and Paper Mills.

⁵ Rule 2.0513, currently entitled Control of Particulates from Portland Cement Plants in the Mecklenburg LIP, is being renamed to Particulates from Portland Cement Plants.

⁶ Rule 2.0514, currently entitled Control of Particulates from Ferrous Jobbing Foundries in the Mecklenburg LIP, is being renamed to Particulates from Ferrous Jobbing Foundries

⁷ 62 FR 27968 (May 22, 1997).

IV. Final Action

EPA is approving the aforementioned SIP revision by incorporating the following MCAPCO Rules, with a local effective date of December 15, 2015, into the Mecklenburg LIP: 2.0502, Purpose; 2.0507, Particulates from Chemical Fertilizer Manufacturing Plants; 2.0508, Particulates from Pulp and Paper Mills; 2.0513, Particulates from Portland Cement Plants; 2.0514, Particulates from Ferrous Jobbing Foundries; 2.0515, Particulates from Miscellaneous Industrial Processes; and 2.0533, Stack Height.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

NCDAQ did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by November 29, 2024. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements.

Dated: September 20, 2024.
Jeaneanne Gettle,
Acting Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart II—North Carolina

2. In § 52.1770 paragraph (c)(3), amend the table by revising the entries for “Rule 2.0502”, “Rule 2.0507”, “Rule 2.0508”, “Rule 2.0513”, “Rule 2.0514”, “Rule 2.0515”, and “Rule 2.0533” to read as follows.

§ 52.1770 Identification of plan.

* * * * *

(c) * * *

(3) EPA-Approved Mecklenburg County Regulations

Citation | Title/subject | County effective date | EPA approval date | Explanation
* * * * * * *
SECTION 2.0500 EMISSION CONTROL STANDARDS
* * * * * * *
Rule 2.0502 | Purpose | 12/15/2015 | 9/30/2024, [Insert first page of Federal Register citation] |
* * * * * * *
Rule 2.0507 | Particulates from Chemical Fertilizer Manufacturing Plants | 12/15/2015 | 9/30/2024, [Insert first page of Federal Register citation] |
Rule 2.0508 | Particulates from Pulp and Paper Mills | 12/15/2015 | 9/30/2024, [Insert first page of Federal Register citation] |
* * * * * * *
Rule 2.0513 | Particulates from Portland Cement Plants | 12/15/2015 | 9/30/2024, [Insert first page of Federal Register citation] |
Rule 2.0514 | Particulates from Ferrous Jobbing Foundries | 12/15/2015 | 9/30/2024, [Insert first page of Federal Register citation] |
Rule 2.0515 | Particulates from Miscellaneous Industrial Processes | 12/15/2015 | 9/30/2024, [Insert first page of Federal Register citation] |
* * * * * * *
Rule 2.0533 | Stack Height | 12/15/2015 | 9/30/2024, [Insert first page of Federal Register citation] |
* * * * * * *

* * * * *

[FR Doc. 2024-22134 Filed 9-27-24; 8:45 am]

BILLING CODE 6560-50-P